GENERAL SERVICES ADMINISTRATION

Office of Communications; Cancellation of an Optional Form by the Department of State

AGENCY: Office of Communications, GSA.

ACTION: Notice.

SUMMARY: The Department of State cancelled the following Optional Form: OF 230, Part 2, Application for Immigrant Visa and Alien Registration.

This form is now a State Department form. You can request copies of the new form from: Department of State, A/RPS/DIR, SA-22, 18th and G Streets NW; Suite 2400, Washington, DC 20522-2201, 202-312-9605.

DATES: Effective July 8, 2002.

FOR FURTHER INFORMATION CONTACT: Mr. Charles Cunningham, Department of State, 202-312-9605.

Dated: June 28, 2002.
Barbara M. Williams,
Deputy Standard and Optional Forms Management Officer, General Services Administration.

[FR Doc. 02-16980 Filed 7-5-02; 8:45 am]

BILLING CODE 6820-34-M